DEPARTMENT OF DEFENSE

Office of the Secretary

[Docket No. DoD-2007-OS-0145]

Proposed Collection; Comment Request

AGENCY: Defense Finance and Accounting Service, DoD.

ACTION: Notice.

SUMMARY: In compliance with Section 3506(c)(2)(A) of the Paperwork Reduction Act of 1995, the Defense Finance and Accounting Service announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Consideration will be given to all comments received by February 26, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Military Pay, Standards and Compliance, Defense Finance and Accounting Service, DFAS-JJFMB/CL, ATTN: Ms. Laurie Eldridge, 1240 East 9th Street, Room 1781, Cleveland, Ohio 44199, or call Ms. Eldridge at (216) 204-3631.

Title, Associated Form, and OMB Number: Claim Certification and Voucher for Death Gratuity Payment; DD Form 397; OMB Control Number 0704-TBD.

Needs and Uses: This information collection allows the government to collect the signatures and information needed to pay a death gratuity. Pursuant to 10 U.S.C. 1475—1480, a designated beneficiary(ies) or next-of-kin can receive a death gratuity payment for a deceased Service member. This form serves as a record of the disbursement of the death gratuity. The DoD Financial Management Regulation (FMR), Volume 7A, Chapter 36, defines the eligible beneficiaries and procedures for payment of the death gratuity. To provide internal controls for this benefit, and to comply with the above-cited statutes, the information requested is needed to substantiate the receipt of the benefit.

Affected Public: Individuals who are beneficiaries of the Service member's death gratuity.

Annual Burden Hours: 1208.

Number of Respondents: 2416.

Responses per Respondent: 1.

Average Burden per Response: .5 hours.

Frequency: On occasion.

SUPPLEMENTARY INFORMATION:

Summary of Information Collection

The Service Casualty Office completes the upper portion of the DD Form 397 and then provides the form to the beneficiaries. The beneficiaries complete their portion of the DD Form 397 and then sign the form and have it witnessed. Once the documents are completed they are forwarded to DFAS for payment.

Dated: December 14, 2007.
Patricia L. Toppings,
Alternate OSD Federal Register Liaison Officer, Department of Defense.

[FR Doc. E7-25193 Filed 12-27-07; 8:45 am]

BILLING CODE 5001-06-P